DEPARTMENT OF THE INTERIOR

National Park Service

[NPS-WASO-NRNHL-13647: PPWOCRADI0, PCU00RP14.R50000]

National Register of Historic Places; Notification of Pending Nominations and Related Actions

Nominations for the following properties being considered for listing or related actions in the National Register were received by the National Park Service before July 20, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 3, 2013. Before including your address, phone number, email address, or other personal identifying information in your comment, you should be aware that your entire comment—including your personal identifying information—may be made publicly available at any time. While you can ask us in your comment to withhold your personal identifying information from public review, we cannot guarantee that we will be able to do so.

Dated: July 29, 2013.
J. Paul Loether,
Chief, National Register of Historic Places/National Historic Landmarks Program.

COLORADO

Fremont County

Greenwood Cemetery, 1251 S. 1st St., Canon City, 13000661

GEORGIA

Fulton County

Staff Row and Old Post Area (Boundary Increase), 1777 Hardee Ave., Atlanta, 13000662

IOWA

Linn County

Dunn, William and Phebe C., House, 524 10th St., Marion, 13000663

Poweshiek County

Grinnell Historic District (Boundary Increase), Roughly bounded by RR, Main, 6th, Broad & Park Sts. Grinnell, 13000664

MICHIGAN

Houghton County

Saint Henry's Evangelical Lutheran Church and Cemetery, MI 38 (Laird Township), Nisula, 13000665

Kent County

Eastern Avenue School, 758 Eastern Ave. NE., Grand Rapids, 13000666

Lexington School, 45 Lexington, NW., Grand Rapids, 13000667

Marquette County

Park Hotel and Cabins, 11137 Cty. Rd. LLK, Republic, 13000668

Newaygo County

Fremont High School, 204 E. Main, Fremont, 13000669

Oakland County

Lower Trout Lake Bathhouse Complex and Contact Station, Bald Mountain Recreation Area Entrance Dr. (Orion Township), Auburn Hills, 13000670

Wayne County

Ford, Henry, Hospital, 2799 W. Grand Blvd., Detroit, 13000671

MISSOURI

Cape Girardeau County

Broadway—Middle Commercial Historic District (Boundary Increase), S. side 400 blk. of Broadway, Cape Girardeau, 13000672

NEBRASKA

Douglas County

Meyer and Raapke, (Warehouses in Omaha MPS) 1430-1407 Harney St., Omaha, 13000673

Holt County

Rouse Ranch, 88780 495th Ave., O'Neill, 13000674

Lancaster County

Park Manor Residential Historic District, Bounded by A, South, 56th & 70th Sts., Lincoln, 13000675

Sheldon Memorial Art Gallery, 12th & R Sts., Lincoln, 13000676

Madison County

Grand Theater, 120 S. 3rd St., Norfolk, 13000677

Nance County

Evangelical United Brethren Church, 501 Broadway St., Fullerton, 13000678

NEW YORK

Delaware County

Sidney Historic District, Railroad Ave., River, Bridge & Main Sts., Sidney, 13000679

OHIO

Hamilton County

Kirby Road School, 1710 Bruce Avenue Rd., Cincinnati, 13000681

Portage County

Mantua Center School, 11741 Mantua Center Rd., Mantua, 13000682

Wayne County

Green Township High School, 484 E. Main St., Smithville, 13000684

WEST VIRGINIA

Ohio County

Mt. Woods Cemetery, Mt. Wood Rd., N. of 4th, Wheeling, 13000685

WISCONSIN

Walworth County

Downtown Historic District, Bounded by Wisconsin St. from W. Beloit to Fremont Sts., Darien, 13000686

In the interest of preservation a request has been made to shorten the comment period to three days for the following resources:

OHIO

Franklin County

Capital University Historic District (Boundary Increase), Bounded by E. Main St., Pleasant Ridge, Astor & College Aves., Bexley, 13000680

Summit County

Goodyear Tire and Rubber Company Headquarters, 1144 E. Market St., Akron, 13000683

A request for removal has been made for the following resource:

NEBRASKA

Keith County

Welsch Motor Court—Erin Plaza Motor Court, 311 E. 1st St. Ogallala, 05001295

[FR Doc. 2013-20059 Filed 8-16-13; 8:45 am]

BILLING CODE 4312-51-P